DEPARTMENT OF COMMERCE

National Oceanic and Atmospheric Administration

Updates to List of National System of Marine Protected Areas MPAs

AGENCY: National Marine Protected Areas Center (MPA Center), Office of National Marine Sanctuaries (ONMS), National Ocean Service (NOS), National Oceanic and Atmospheric Administration (NOAA), Department of Commerce (DOC).

ACTION: Notice of updates to the list of National System of Marine Protected Areas (MPAs).

SUMMARY: The National System of Marine Protected Areas (MPAs) provides a mechanism for agencies managing MPAs to work together on common conservation priorities. In January 2013, NOAA and the Department of the Interior (DOI) invited federal, state, commonwealth, territorial and tribal MPA programs with potentially eligible existing MPAs to nominate their sites to the National System of MPAs (national system). A total of 82 nominations were received, including 80 from the California Department of Fish and Wildlife and two from the National Park Service. Following a 60-day public review period of these nominations [78 FR 30870], no public comments were received by the National Marine Protected Areas Center (MPA Center). The managing agencies listed above were then asked to make a final determination of their desire to nominate these sites to the national system, which they subsequently confirmed. Finding them to be eligible for the national system, the MPA Center has accepted the nominations for 82 sites and placed them on the List of National System MPAs.

FOR FURTHER INFORMATION CONTACT: Lauren Wenzel, NOAA, at 301-713-7265 or via email at lauren.wenzel@noaa.gov. A detailed electronic copy of the List of National System of MPAs is available at marineprotectedareas.noaa.gov.

SUPPLEMENTARY INFORMATION:

Background on National System

The national system of MPAs is made up of member MPAs, networks and systems established and managed by federal, state, commonwealth, territorial, tribal, or local governments. These sites are a subset of the approximately 1,700 MPAs in U.S. waters, and have been nominated by their management entity to participate in a collaborative partnership to address national marine conservation goals and represent diverse marine ecosystems and resources. Sites in the national system continue to be managed independently, but national system MPA managers work together at the regional and national levels to achieve common objectives for conserving the nation's important natural and cultural resources. For more information about the benefit of the National System of MPAs, see http://marineprotectedareas.noaa.gov/nationalsystem/.

Nomination Process

NOAA issues a call for nominations to the national system annually. This round of nominations began on January 28, 2013 and the deadline for nominations was March 29, 2013. A public comment period was held from May 22, 2013 [78 FR 30870] through July 22, 2013. No public comments were received. Additional details on the nomination process are posted at marineprotectedareas.noaa.gov.

Updates to List of National System MPAs

The list of 82 MPAs nominated by the California Department of Fish and Wildlife and the National Park Service to join the National System of MPAs was published in the Federal Register on May 22, 2013 [78 FR 30870]. Both the list of newly nominated sites and the complete List of National System MPAs, which now includes 437 members, are available at marineprotectedareas.noaa.gov.

Dated: August 7, 2013.
W. Russell Callendar,
Deputy Assistant Administrator for Ocean Services and Coastal Zone Management.

[FR Doc. 2013-19743 Filed 8-13-13; 8:45 am]

BILLING CODE 3510-NK-P